DEPARTMENT OF THE INTERIOR

Bureau of Land Management

[CO-810 and CO-130 1060-JJ]

Notice of Public Hearings Addressing the Use of Helicopter and Motorized Vehicles During the Capture of Wild Horses and Burros; Public Hearings (43 CFR 4740.1)

AGENCY: Bureau of Land Management, Department of the Interior.

ACTION: Notice of public hearings.

SUMMARY: A public hearing addressing the use of motorized vehicles and helicopters during the capture of wild horses from the Spring Creek Basin Wild Horse Herd Management Area has been scheduled in Dolores, Colorado. A public hearing addressing the use of motorized vehicles and helicopters during the capture of wild horses from the Little Book Cliffs Wild Horse Range has been scheduled in Grand Junction, Colorado.

DATES: The hearing dates are scheduled as follows: August 2, 2007; 1 p.m.; Dolores, Colorado and August 9, 2007; 7 p.m.; at the Grand Junction Field Office.

ADDRESSES: The Spring Creek Basin Herd Management Area hearing will be held at the following location: Dolores Public Lands Office, 29211 Highway 184, Dolores, Colorado. The Little Book Cliffs Wild Horse Range hearing will be held at the Grand Junction Field Office; 2815 H Road; Grand Junction, Colorado.

Additional Information: The Dolores Public Land Office hearing will be immediately followed by a public meeting to serve as a platform for discussion of the proposed wild horse gather. The Spring Creek Basin wild horse gather is scheduled to begin in late August, 2007. For additional information on the Spring Creek Basin gather contact Bob Ball, Natural Resource Specialist at 970-882-6847. The Grand Junction Field Office hearing will be immediately followed by a public meeting to discuss the proposed wild horse gather. The Little Book Cliffs Wild Horse Range gather is scheduled for mid-September 2007. For additional information regarding the public hearing or gather please contact Jim Dollerschell, Rangeland Management Specialist at 970-244-3016.

Dated: May 10, 2007.
Steven K. Beverlin,
Dolores Field Office Manager.
Catherine Robertson,
Grand Junction Field Office Manager.

[FR Doc. E7-10743 Filed 6-4-07; 8:45 am]

BILLING CODE 4310-JB-P